DEPARTMENT OF THE INTERIOR

National Park Service

[NPS-WASO-NAGPRA-NPS0039896; PPWOCRADN0-PCU00RP14.R50000]

Notice of Intended Disposition: U.S. Department of Agriculture, Forest Service, Angeles National Forest, Arcadia, CA

AGENCY: National Park Service, Interior.

ACTION: Notice.

SUMMARY: In accordance with the Native American Graves Protection and Repatriation Act (NAGPRA), the U.S. Department of Agriculture, Forest Service, Angeles National Forest (USFS—Angeles National Forest) intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after May 12, 2025. If no claim for disposition is received by April 13, 2026, the human remains or cultural items in this notice will become unclaimed human remains or cultural items.

ADDRESSES: Roman Luis Torres, Forest Supervisor, USFS—Angeles National Forest, 701 N Santa Anita Avenue, Arcadia, CA 91006, telephone (626) 574-5216, email roman.torres@usda.gov.

SUPPLEMENTARY INFORMATION: This notice is published as part of the National Park Service's administrative responsibilities under NAGPRA. The determinations in this notice are the sole responsibility of the USFS—Angeles National Forest, and additional information on the human remains or cultural items in this notice, including the results of consultation, can be found in the related records. The National Park Service is not responsible for the identifications in this notice.

Abstract of Information Available

Based on the information available, human remains representing at least two individuals have been reasonably identified from two archaeological sites CA-LAN-1977 and FS #05-01-55-137. The one associated funerary object is a drilled pendent associated with FS #05-01-55-137.

CA-LAN-1977

The inadvertent discovery included two incisors with shovel-shaped morphology, a cranial fragment, and two phalanges (finger/toe bones), as well as numerous indeterminate bone fragments. Formal written notification was mailed on July 7, 2010, to federally recognized Tribes, non-federally recognized Tribes, and interested members of the Native American community. A Plan of Action (POA) was sent out July 26, 2010, for review, comment, and edits, with the request that the closest Federally Recognized Tribe, the Yuhaaviatam of San Manuel Nation (YSMN) take lead on any coordination with the community members participating. The Forest and YSMN representatives have met onsite (2021-2024) and discussed by email and at meetings about repatriating the ancestral remains to the tribal and identifying an appropriate location for a potential reburial near the discovery location. During these discussions, the YSMN representative verbally indicated the Tribe, considering the discovery occurred within an area they ascribed cultural affinity, would make a formal claim in this case. Additional written information and records were provided on July 22, 2024.

FS #05-01-55-137

Another inadvertent discovery occurred in 2000, during the inventory of a proposed trail project located south of the city of Acton, California. Five skeletal fragments were observed on the surface in an area that is directly associated with a Native American archaeological site (FS #05-01-55-137). A physical anthropologist, using a non-intrusive examination, confirmed that three of the fragments were cranial and can be definitively identified as human. These fragments were collected following the coroner's determination that they were Native American in origin. During a monitoring visit in 2007, additional skeletal material, comprising three cranial fragments were observed on the surface near those collected in 2000. In addition, a phalange bone (probable fingertip), and a molar tooth were collected from a different location within the site, along with several indeterminate bone fragments and non-local lithic material. An artifact collected, a drilled pendent with parallel sides, was located and collected some distance from the skeletal material and is likely to have funerary associations. Additional written information and records were provided on July 22, 2024.

Due to the location of the discovery, and prior and recent consultation with Tribes and the Native American community, it was determined the Yuhaaviatam of San Manuel Nation would have priority for disposition for Native American human remains or cultural items eligible for NAGPRA for these two inadvertent discoveries.

The Forest has received a formal written claim from the Yuhaaviatam of San Manuel Nation on October 11, 2024, for the remains and items associated with CA-LAN-1977 and FS #05-01-55-137.

Determinations

The USFS—Angeles National Forest has determined that:

• The human remains described in this notice represent the physical remains of at least two individuals of Native American ancestry.

• The one object described in this notice is reasonably believed to have been placed intentionally with or near individual human remains at the time of death or later as part of the death rite or ceremony.

• The Yuhaaviatam of San Manuel Nation (previously listed as San Manuel Band of Mission Indians, California) has priority for disposition of the human remains or cultural item described in this notice.

Claims for Disposition

Written claims for disposition of the human remains or cultural items in this notice must be sent to the appropriate official identified in this notice under ADDRESSES. If no claim for disposition is received by April 13, 2026, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after May 12, 2025. If competing claims for disposition are received, the USFS—Angeles National Forest must determine the most appropriate claimant prior to disposition. Requests for joint disposition of the human remains or cultural items are considered a single request and not competing requests. The USFS—Angeles National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: April 1, 2025.
Melanie O'Brien,
Manager, National NAGPRA Program.

[FR Doc. 2025-06212 Filed 4-10-25; 8:45 am]

BILLING CODE 4312-52-P